DEPARTMENT OF DEFENSE

Department of the Navy

Notice of Virtual Public Meeting for the Draft Environmental Impact Statement Pearl Harbor Naval Shipyard and Intermediate Maintenance Facility Dry Dock and Waterfront Production Facility

AGENCY: Department of the Navy (DoN), Department of Defense (DoD)

ACTION: Notice of public meeting.

SUMMARY: Pursuant to the National Environmental Policy Act (NEPA) of 1969, as implemented by the Council on Environmental Quality Regulations, the DoN has prepared and filed with the United States Environmental Protection Agency (U.S. EPA) a Draft Environmental Impact Statement (EIS) that evaluates the potential environmental effects associated with constructing and operating a graving dry dock (DD) and waterfront production facility (WPF) at the Pearl Harbor Naval Shipyard and Intermediate Maintenance Facility (PHNSY & IMF) at Joint Base Pearl Harbor‐Hickam (JBPHH), Oahu, Hawaii. A graving dry dock is a narrow basin constructed near the shoreline that can be flooded to allow watercraft to be floated in, then drained to allow the watercraft to come to rest on a dry platform. Dry docks are used for the maintenance and repair of ships, boats, submarines, and other watercraft. A WPF is a facility situated at the waterfront that is used to support maintenance of these vessels.

DATES: With the filing of the Draft EIS, the DoN is initiating a 45-day public comment period beginning on February 4, 2022, and extending through March 21, 2022. Comments submitted during the public comment period will become part of the public record, and substantive comments will be considered in the Final EIS. All comments must be postmarked or received electronically by 11:59 p.m. Hawaii Standard Time (HST) on March 21, 2022, for consideration in the Final EIS.

Due to current Federal and State guidance on social distancing in response to the COVID-19 pandemic, the DoN is providing virtual and web-based opportunities for the public to learn about the proposed action and action alternatives, and provide comments on the Draft EIS. The virtual and web-based opportunities are:

1. Virtual Open House: A Virtual Open House will be available at https://www.pearlharbordrydockeis.org from February 4, 2022, to March 21, 2022.

2. Project Website: The Project website is available at https://www.pearlharbordrydockeis.org throughout the EIS preparation. The Project website provides information on the proposed action, NEPA process, and schedule, and includes a document library. The public can use this website to submit comments on the Draft EIS electronically between February 4, 2022, and March 21, 2022.

3. Virtual Public Meeting: February 24, 2022, 4:30-6:30 p.m. HST. There are two options to access the meeting:

a. Go to Zoom.us/join or join by phone at: 669-900-6833; Meeting ID: 881 8171 0022.

b. Visit the Project Website at: https://www.pearlharbordrydockeis.org to access the Virtual Public Meeting link and phone number.

Concurrent with the NEPA public involvement process, the DoN is conducting National Historic Preservation Act Section 106 consultations regarding potential effects of the Proposed Action on historic properties. Historic properties include districts, sites, buildings, structures, or objects listed or eligible for listing in the National Register of Historic Places. The public will have the opportunity to participate in the Section 106 process by reviewing the Draft EIS and providing comments using one of the various virtual and web-based platforms identified above.

ADDRESSES: Written comments on the Draft EIS or the project's potential to affect historic properties pursuant to Section 106 of the National Historic Preservation Act may be mailed to Naval Facilities Engineering Systems Command, Attention: PHNSY & IMF DD/WPF EIS Project Manager, 258 Makalapa Drive, Suite 100, Joint Base Pearl Harbor-Hickam, HI 96860, or submitted electronically via the project website at https://www.pearlharbordrydockeis.org.

FOR FURTHER INFORMATION CONTACT: Andréa M. Von Burg Hall, DON PHNSY & IMF DD/WPF EIS Project Manager, at andrea.vonburg-hall@navy.mil, or 808-472-1425, or 258 Makalapa Drive, Suite 100, Joint Base Pearl Harbor-Hickam, HI 96860.

SUPPLEMENTARY INFORMATION: A Notice of Intent to prepare this EIS was published in the Federal Register on September 15, 2020 (Federal Register (FR) Doc 2020-19961) with a correction on September 18, 2020. The DoN's coaction proponents for this EIS are JBPHH and Naval Facilities Engineering Systems Command Program Management Office 555. The U.S. Army Corps of Engineers, Honolulu District; U.S. EPA, Region 9; and the National Marine Fisheries Service, Pacific Islands Regional Office are cooperating agencies.

PHNSY & IMF's mission is to repair, maintain, and modernize DoN fast-attack submarines and surface ships. The purpose of the proposed action is to provide appropriate dry dock capability at PHNSY & IMF no later than January 2028 to meet submarine depot maintenance mission requirements, as well as build and operate a properly sized and configured WPF to enable efficient submarine maintenance. The proposed action is needed because the existing DD3 at PHNSY & IMF does not have the necessary length or floor strength to accommodate current and future class fast-attack submarines. Additionally, an appropriately sized and adjacent WPF is needed to reduce lost operational days by increasing collaboration and efficiency among the workforce. The culmination of a replacement DD and new WPF will ensure that the Navy achieves necessary efficiencies and is capable of fulfilling scheduled maintenance requirements. The mission need date of January 2028 is driven by current projected Fleet maintenance schedules.

The DoN is considering four action alternatives that meet the purpose of and need for the proposed action, as well as a no action alternative. Under the No Action Alternative, Alternative 1, there would be no change from the status quo. Action alternatives are differentiated by the location of the WPF relative to a new dry dock (east or west), whether the WPF serves only that dry dock (single support concept) or has capability to serve more than one dry dock (multiple support concept), and whether the dry dock is covered or uncovered.

In the EIS, the DoN analyzes potential environmental impacts of the different alternatives. Additionally, the DoN will conduct all coordination and consultation activities required by the National Historic Preservation Act, the Endangered Species Act, the Magnuson‐Stevens Fishery Conservation and Management Act, the Clean Water Act, and other laws and regulations determined to be applicable to the project. The DoN will implement mitigation and monitoring measures to avoid or reduce environmental impacts, as determined in cooperation with the appropriate regulatory agencies and consulting parties.

The DoN distributed the Draft EIS to federal agencies and Native Hawaiian Organizations with which the DoN is consulting and to other stakeholders. The DoN provided press releases to the local newspapers and distributed letters and postcards to stakeholders, Native Hawaiian Organizations, and other interested parties. Copies of the Draft EIS are available for public review at the following public libraries: 1. Hawaii State Public Library and 2. Salt Lake-Moanalua Public Library. The Draft EIS is also available for electronic viewing or download at https://www.pearlharbordrydockeis.org.

Dated: January 28, 2022.
J.M. Pike,
Commander, Judge Advocate General's Corps, U.S. Navy, Federal Register Liaison Officer.

[FR Doc. 2022-02168 Filed 2-3-22; 8:45 am]

BILLING CODE 3810-FF-P